DEPARTMENT OF TRANSPORTATION

Federal Aviation Administration

Drone Advisory Committee: Notice of Solicitation of Nominations for Appointment to the Newly Proposed Advanced Aviation Advisory Committee (AAAC)—Previously Known as Drone Advisory Committee

AGENCY: Federal Aviation Administration (FAA), Department of Transportation (DOT).

ACTION: Solicitation of nominations for appointment to the Advanced Aviation Advisory Committee (AAAC).

SUMMARY: This notice announces a solicitation for nominations for membership on the Advanced Aviation Advisory Committee (AAAC)—previously known as Drone Advisory Committee. This solicitation supersedes the previous Solicitation of Nominations for Appointment to the Drone Advisory Committee published June 18, 2020.

DATES: Nominations must be received no later than 6:00 p.m. Eastern Time on January 10, 2022. Nominations received after the above due date may be retained for evaluation for future AAAC vacancies after all other nominations received by the due date have been evaluated and considered.

ADDRESSES: Nominations can be submitted electronically (by email) to Kamisha Walker in the FAA's UAS Integration Office, at kamisha.walker@faa.gov. The subject line should state “2022 AAAC Nomination.” The body of the email must contain content or attachments that address all requirements as specified in the below “Materials to Submit” section. Incomplete/partial submittals as well as those that exceed the specified document length may not be considered for evaluation. An email confirmation from the FAA will be sent upon receipt of all complete nominations that meet the criteria in the “Materials to Submit” section. Anyone wishing to submit an application by paper may do so by contacting Kamisha Walker at kamisha.walker@faa.gov or by calling 202-267-4441. The FAA will notify those appointed by the Secretary to serve on the AAAC in writing.

FOR FURTHER INFORMATION CONTACT: Kamisha Walker at kamisha.walker@faa.gov or by calling 202-267-4441. Additional information on the AAAC, including the current roster, charter, and previous meeting minutes may be found at: https://www.faa.gov/uas/programs_partnerships/advanced_aviation_advisory_committee/.

SUPPLEMENTARY INFORMATION:

Background

The AAAC is an advisory committee established under DOT's authority, in accordance with the provisions of the Federal Advisory Committee Act (FACA) as amended, Public Law 92-463, 5 U.S.C. App. 2. The objective of the AAAC is to provide independent advice and recommendations to the FAA and in response to specific taskings received directly from the FAA. The advice, recommendations, and taskings relate to improving the efficiency and safety of integrating advanced aviation technologies—including unmanned aircraft systems (UAS) and advanced air mobility (AAM), into the National Airspace System (NAS)—while equipping and enabling communities to inform how UAS, AAM and other technologies may operate in ways that are least impactful to those communities. In response to FAA requests, the AAAC may provide the FAA with information that may be used for tactical and strategic planning purposes.

This notice seeks to fill current and future vacancies on the AAAC and does not affect the status of AAAC members whose terms have not expired.

Description of Duties

The AAAC acts solely in an advisory capacity and does not exercise program management responsibilities. Decisions directly affecting implementation of transportation policy will remain with the FAA Administrator and the Secretary of Transportation. The AAAC duties include:

a. Undertaking tasks only assigned by the FAA.

b. Deliberating on and approving recommendations for assigned tasks in meetings that are open to the public.

c. Responding to ad hoc informational requests from the FAA and/or providing input to the FAA on the overall AAAC structure (including structure of the subcommittees and or task groups).

Membership: The FAA will submit recommendations for membership to the Secretary of Transportation, who will appoint members to the AAAC. The membership must be equitably balanced in terms of points of view represented and the functions performed. The stakeholder groups represented on the AAAC include the following:

a. Airports and Airport Communities

b. Labor (controllers, pilots)

c. Local, State, Tribal and/or Territorial Government or Appropriate International Entity

d. Navigation, Communication, Surveillance, and Air Traffic Management Capability Providers

e. Research, Development, and Academia

f. Traditional Manned Aviation Operators

g. UAS Hardware Component Manufacturers

h. UAS Manufacturers

i. Corporate UAS Operators

j. Citizen UAS Operators

k. UAS Software Application Manufacturers

l. Agricultural Interests

m. Advanced Air Mobility

n. Community Advocate

o. Industry Associations or other specific areas of interest

All AAAC members serve at the pleasure of the Secretary of Transportation. To the extent practicable, the membership of the AAAC shall include persons of diverse backgrounds in race, ethnicity, religion, sexual orientation, and gender. The AAAC will have no more than 41 members. Other membership terms include:

a. An appointment of up to two years.

b. Service without charge and without government compensation. Representation of a particular interest of employment, education, experience, or affiliation with a specific aviation related organization.

c. Ability to attend all AAAC meetings (estimated three meetings per year).

Qualifications: Candidates must be in good public standing and currently serve as a member of their organization's core senior leadership team with the ability to make decisions on UAS or AAM related matters. In rare circumstances, membership may be granted to uniquely qualified individuals who do not meet the previous requirement. Members appointed solely for their individual expertise will serve as Special Government Employees.

Materials to Submit: Candidates are required to submit, in full, the following materials to be considered for AAAC membership. Failure to submit the required information may disqualify a candidate from the review process.

a. A short biography of the nominee, including professional and academic credentials.

b. A résumé or curriculum vitae, which must include relevant job experience, qualifications, as well as contact information (email, telephone, and mailing address).

c. A one-page statement describing how the candidate will benefit the AAAC, considering current membership and the candidate's unique perspective that will advance the conversation. This statement must also identify a primary and secondary interest to which the candidate's expertise best aligns. Finally, candidates should state their previous experience on Federal Advisory Committees and/or Aviation Rulemaking Committees (if any), their level of knowledge in their above stakeholder groups, and the size of their constituency they represent or are able to reach.

Up to three letters of recommendation may be submitted but are not required. Each letter may be no longer than one page. Evaluations will be based on the materials submitted.

Issued in Washington, DC.
Erik W. Amend,
Manager, Executive Office, AUS-10, UAS Integration Office, Federal Aviation Administration.

[FR Doc. 2021-24512 Filed 11-9-21; 8:45 am]

BILLING CODE 4910-13-P